DEPARTMENT OF COMMERCE

National Oceanic and Atmospheric Administration

[I.D. 111406B]

Endangered Species; File No. 1540-03

AGENCY: National Marine Fisheries Service (NMFS), National Oceanic and Atmospheric Administration (NOAA), Commerce.

ACTION: Notice; issuance of permit modification.

SUMMARY: Notice is hereby given that South Carolina Department of Natural Resources (SCDNR), Marine Resources Division, P.O. Box 12559, Charleston, SC 29422-2559 has been issued a modification to scientific research Permit No.1540-01.

ADDRESSES: The modification and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

FOR FURTHER INFORMATION CONTACT: Kate Swails or Patrick Opay, (301)713-2289.

SUPPLEMENTARY INFORMATION: On October 5, 2006, notice was published in the Federal Register (7 FR 58805) that a modification of Permit No. 1540-01, February 6, 2006 (71 FR 7019), had been requested by the above-named individual. The requested modification has been granted under the authority of the Endangered Species Act of 1973, as amended (ESA; 16 U.S.C. 1531 et seq.) and the regulations governing the taking, importing, and exporting of endangered and threatened species (50 CFR 222-226).

Permit No. 1540 currently authorizes the permit holder to study loggerhead (Caretta caretta), Kemp's ridley (Lepidochelys kempii), green (Chelonia mydas), leatherback (Dermochelys coriacea), and hawksbill (Eretmochelys imbricata) sea turtles. The purpose of the research is to continue to document in-water relative abundances, size distributions, sex ratios, genetic contributions, and the health of sea turtles in coastal waters in the southeastern U.S. SCDNR is authorized to capture 146 loggerhead, 48 Kemp's ridley, 15 green, 1 leatherback, and 3 hawksbill sea turtles, during the first year of the permit's five- year period. The permit authorizes research on up to 346 loggerhead, 48 Kemp's ridley, 15 green, 1 leatherback, and 3 hawksbill sea turtles annually for the remaining four years. Turtles are captured by trawls, handled, blood sampled, measured, flipper and Passive Integrated Transponder tagged, photographed, and released. A subsample of animals have barnacles and keratin removed from their shell, have cloacal samples taken, have laparoscopic and ultrasound exams, and have satellite transmitters attached. Up to 7 loggerhead and 1 leatherback captures could potentially result in accidental mortalities over the course of the entire permit. Additionally, up to 5 Kemp's ridley, green, or hawksbill sea turtles (combined total but no more than two of any given species) may potentially be taken as accidental mortalities over the course of the entire permit. The permit is issued for 5 years.

The permit modification authorizes skin biopsy of 50 loggerhead sea turtles annually as well authorizing an increase in the number of turtles undergoing ultrasound, cloacal swabbing, keratin scraping, and having satellite transmitters attached. The number of sea turtles captured does not change. The goal of the additional research would be to assess the potential diversity of diets and foraging habits and document over-wintering habitats of loggerheads.

Issuance of this modification, as required by the ESA was based on a finding that such permit (1) was applied for in good faith, (2) will not operate to the disadvantage of any endangered or threatened species, and (3) is consistent with the purposes and policies set forth in section 2 of the ESA.

Dated: November 16, 2006.
P. Michael Payne,
Chief, Permits, Conservation and Education Division, Office of Protected Resources, National Marine Fisheries Service.

[FR Doc. E6-19760 Filed 11-21-06; 8:45 am]

BILLING CODE 3510-22-S